DEPARTMENT OF THE INTERIOR

Office of Acquisition and Property Management

Agency Information Collection Activities: Proposed Collection; Comment Request

AGENCY: Office of Acquisition and Property Management (PAM), Office of the Secretary, Interior.

ACTION: Notice of planned request for extension/revision of a currently approved information collection (OMB Control Number 1006-0009) and request for comment.

SUMMARY: As part of its continuing effort to reduce paperwork and respondent burden, PAM invites the public and other Federal agencies to comment on a proposal to extend and revise the currently approved collection of information discussed below for a survey of the private sector housing rental market using forms entitled Private Rental Survey. We intend to submit this collection of information to the Office of Management and Budget (OMB) for approval. The Paperwork Reduction Act of 1995 (PRA) provides that an agency may not conduct or sponsor, and a person is not required to respond to, a collection of information unless it displays a currently valid OMB control number.

DATES: Submit written comments by October 17, 2000.

ADDRESSES: Mail or hand carry comments to the Department of the Interior; Office of Acquisition and Property Management; Attention: Linda Tribby; Mail Stop 5512; 1849 C Street, NW, Washington, DC 20240. Comments may also be submitted electronically to linda_tribby@ios.doi.gov. Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Linda Tribby, Departmental Quarters Program Manager, telephone (202) 219-0728.

SUPPLEMENTAL INFORMATION: Title: Private Rental Survey.

OMB Control Number: 1084-NEW (replaces OMB No. 1006-0009).

Bureau Form Number: OS-2000 and OS-2001 (replace Bureau of Reclamation Forms 7-2226 and 7-2227).

Abstract: Public Law 88-459 authorizes Federal agencies to provide housing for Government employees under specified circumstances. In compliance with OMB Circular A-45 (Revised), Rental and Construction of Government Quarters, a review of private rental market housing rates is required at least once every 5 years to ensure that the rental, utility charges, and charges for related services to occupants of Government Furnished Quarters (GFQ) are comparable to corresponding charges in the private sector. To avoid unnecessary duplication and inconsistent rental rates, PAM conducts housing surveys in support of quarters management programs for the Departments of the Interior (DOI), Agriculture, Commerce, Defense, Justice, Transportation, Treasury, Health and Human Services, and Veterans Affairs. DOI's Bureau of Reclamation previously performed these information collections under the currently approved OMB Control No. 1006-0009. This collection of information provides data that helps DOI as well as other Federal agencies to manage GFQ in compliance with the requirements of OMB Circular A-45 (Revised). If the collection activity were not performed, there would be no basis for determining open market rental costs for GFQ.

Frequency of Collection: Each of 14 regions is surveyed every third year; this equates to four to five regions surveyed each year.

Description of Respondents: Individual property owners and small businesses or organizations (real estate managers, appraisers, or property managers).

Estimated Annual Responses: 3,500.

Estimated Annual Reporting and Recordkeeping “Hour” Burden: 688 hours. There are no recordkeeping requirements.

Estimated Annual Reporting and Recordkeeping “Non-Hour Cost” Burden: None.

Comments: We will summarize written responses to this notice and address them in our submission for OMB approval. We specifically solicit your comments on the following questions:

(a) Is the proposed collection of information necessary for us to properly perform our functions, and will it be useful?

(b) Is the estimate of the burden hours of the proposed collection reasonable?

(c) Do you have any suggestions that would enhance the quality, clarity, or usefulness of the information to be collected?

(d) Is there a way to minimize the information collection burden on respondents, including through the use of appropriate automated electronic, mechanical, or other forms of information technology?

PAM Information Collection Clearance Officer: Debra E. Sonderman, (202) 208-6352.

Dated: August 14, 2000.
Debra E. Sonderman,
Director, Office of Acquisition and Property Management.

[FR Doc. 00-21093 Filed 8-17-00; 8:45 am]

BILLING CODE 4310-RF-P